DEPARTMENT OF TRANSPORTATION

Coast Guard

33 CFR Part 117

[CGD07-00-135]

Drawbridge Operation Regulations; Memorial Bridge, Across the Intracoastal Waterway, Mile 830.6, Volusia County, Daytona Beach, FL

AGENCY: Coast Guard, DOT.

ACTION: Notice of temporary deviation from regulations.

SUMMARY: The Commander, Seventh Coast Guard District, has approved a temporary deviation from the regulations governing the operation of the Memorial bridge across the Intracoastal Waterway, mile 830.6, Volusia County, Daytona Beach, Florida. This deviation allows the drawbridge owner or operator to only open a single leaf, from January 8, 2001, to January 19, 2001. This temporary deviation is required to allow the bridge owner to safely complete repairs of the bridge.

DATES: This deviation is effective from January 8, 2001, to January 19, 2001.

FOR FURTHER INFORMATION CONTACT: Mr. Barry Dragon, Chief, Operations Section, Seventh Coast Guard District, Bridge Section at (305) 415-6743.

SUPPLEMENTARY INFORMATION: The Memorial bridge across the Gulf Intracoastal Waterway at Volusia County, Daytona Beach, is a double leaf bridge with a vertical clearance of 21 feet above mean high water (MHW) measured at the fenders in the closed position with a horizontal clearance of 90 feet. On November 28, 2000, Sieg and Ambachtsheer, Inc., contractors representing the drawbridge owner, requested a deviation from the current operating regulation in 33 CFR 117.5 which requires drawbridges to open promptly and fully when a request to open is given. This temporary deviation was requested to allow necessary repairs to the drawbridge in a critical, time-sensitive manner.

The District Commander has granted a temporary deviation from the operating requirements listed in 33 CFR 117.5 for the purpose of repair completion of the drawbridge. Under this deviation, the Memorial Bridge need only open one leaf from January 8, 2001 until January 19, 2001. The deviation is effective beginning January 8, 2001, to January 19, 2001.

Dated: December 21, 2000.
Greg E. Shapley,
Chief, Bridge Administration, Seventh Coast Guard District.

[FR Doc. 01-547 Filed 1-8-01; 8:45 am]

BILLING CODE 4910-15-P